DEPARTMENT OF COMMERCE

International Trade Administration

[A-201-822]

Stainless Steel Sheet and Strip in Coils from Mexico: Second Extension of Time Limit for Final Results of Antidumping Duty Administrative Review

AGENCY: Import Administration, International Trade Administration, Department of Commerce.

EFFECTIVE DATE: January 14, 2008.

FOR FURTHER INFORMATION CONTACT: Maryanne Burke or Robert James, AD/CVD Operations, Office 7, Import Administration, International Trade Administration, U.S. Department of Commerce, 14th Street and Constitution Avenue NW, Washington, DC 20230; telephone: (202) 482-5604 or (202) 482-0649, respectively.

SUPPLEMENTARY INFORMATION: On August 6, 2007, the Department of Commerce (the Department) published the preliminary results of the administrative review of the antidumping duty order on stainless steel sheet and strip in coils from Mexico for the period July 1, 2005 through June 30, 2006. See Stainless Steel Sheet and Strip in Coils from Mexico; Preliminary Results of Antidumping Duty Administrative Review, 72 FR 43600 (August 6, 2007). On September 4, 2007, we published a notice in the Federal Register partially extending the due date of the final results until January 10, 2008. See Stainless Steel Sheet and Strip in Coils from Mexico: Extension of Time Limit for Final Results of Antidumping Duty Administrative Review, 72 FR 50663 (September 4, 2007).

Second Extension of Time Limits for Final Results

Section 751(a)(3)(A) of the Tariff Act of 1930, as amended (the Tariff Act), requires the Department to issue the final results of an administrative review within 120 days after the date on which the preliminary results were published. However, if it is not practicable to complete the review within this time period, section 751(a)(3)(A) of the Tariff Act allows the Department to extend the time limit for the final results up to 180 days from the date of publication of the preliminary results.

The Department finds that it is not practicable to complete this review within the original time frame due to additional analysis that must be performed with respect to certain adjustments made to the cost of production. Furthermore, our post-preliminary results cost verification forced an extension of the briefing schedule for parties' comments and rebuttals. Consequently, and in accordance with section 751(a)(3)(A) of the Tariff Act and 19 CFR 351.213(h)(2), the Department is further extending the time period for issuing the final results of review to 180 days after the publication of the preliminary results. Therefore, the final results will be due no later than February 2, 2008.¹ This notice is published in accordance with section 751(a)(3)(A) of the Tariff Act.

¹ Because February 2, 2008 falls on a Saturday, the final results will be due no later than Monday February 4, 2008.

Dated: January 8, 2008.
Stephen J. Claeys,
Deputy Assistant Secretary for Import Administration.

[FR Doc. E8-454 Filed 1-11-08; 8:45 am]

BILLING CODE 3510-DS-S